Proclamation 7822 of September 25, 2004

National Hunting and Fishing Day, 2004

By the President of the United States of America

A Proclamation

America is a land of majestic beauty, and we take pride in our wildlife, forests, mountains, lakes, rivers, and coastlines. Outdoor recreation is an important part of our Nation's heritage. On National Hunting and Fishing Day, we celebrate the remarkable progress we have made in conserving our environment and recognize those who have worked to conserve our natural resources.

America's hunters and anglers represent the great spirit of our country and are among our Nation's foremost conservationists. These citizens have worked to protect habitat and restore fish and wildlife populations. They volunteer their time, talents, and energy to countless conservation projects, because they recognize the importance of maintaining the natural abundance of our country for future generations.

My Administration is committed to achieving a cleaner, safer, and healthier environment for all Americans, including our hunters and anglers. My Administration has expanded opportunities to hunt and fish at national wildlife refuges and improved habitat on public and private lands. We have cut phosphorus releases into our rivers and streams, and I signed the Healthy Forests Restoration Act to help protect our forests from the risk of wildfires.

Americans are blessed to live amid many wonders of nature, and we have a responsibility to be good stewards of the land. I commend all who advance conservation and help our citizens enjoy the benefits of our environment. These efforts ensure that our national heritage remains a source of pride for our citizens, our communities, and our Nation.

NOW, THEREFORE, I, GEORGE W. BUSH, President of the United States of America, by virtue of the authority vested in me by the Constitution and laws of the United States, do hereby proclaim September 25, 2004, as National Hunting and Fishing Day. I call upon the people of the United States to join me in recognizing the contributions of America's hunters and anglers, and all those who work to conserve our Nation's fish and wildlife resources.

IN WITNESS WHEREOF, I have hereunto set my hand this twenty-fifth day of September, in the year of our Lord two thousand four, and of the Independence of the United States of America the two hundred and twenty-ninth.

B

[FR Doc. 04-22043

Filed 9-28-04; 9:04 am]

Billing code 3195-01-P